NATIONAL TRANSPORTATION SAFETY BOARD

Notice of Sunshine Act Meeting

Time and Date: 9:30 a.m., Tuesday, April 4, 2006.

Place: NTSB Board Room, 429 L'Enfant Plaza, SW., Washington, DC 20594.

Status: The one item is open to the public.

Matters to be Considered: 7770, Marine Accident Report—Fire On Board U.S. Small Passenger Vessel Express Shuttle II, Pithlachascotee River, near Port Richey, Florida, October 17, 2004.

New Media Contact: Telephone: (202) 314-6100.

Individuals requesting specific accommodations should contact Chris Bisett at (202) 314-6305 by Friday, March 31, 2006.

The public may view the meeting via a live or archived webcast by accessing a link under “News & Events” on the NTSB home page at http://www.ntsb.gov.

FOR MORE INFORMATION CONTACT: Vicky D'Onofrio, (202) 314-6410.

Dated: March 24, 2006.
Vicky D'Onofrio,
Federal Register Liaison Officer.

[FR Doc. 06-3058 Filed 3-24-06; 4:37 pm]

BILLING CODE 7533-01-M